DEPARTMENT OF ENERGY

Federal Energy Regulatory Commission

[Docket No. RP06-78-000]

Discovery Gas Transmission LLC; Notice of Tariff Filing

November 4, 2005.

Take notice that on November 3, 2005, Discovery Gas Transmission LLC filed for pursuant to part 284, Subpart I of the Commission's emergency transactions regulations a request for temporary waivers of certain tariff provisions to provide limited-term transportation service under Rate Schedule FT-2. The waivers are necessary to transition this service from part 284, subpart I emergency authorization, to part 284, subpart G open access authorization, and allow the service to be provided under Discovery's Rate Schedule FT-2 as more fully described in the application. Discovery is requesting that such waivers be for a term of one year or until certain third-party processing infrastructure damaged by Hurricane Katrina is returned to service, whichever occurs first.

Discovery also request that the Commission grant the relief requested herein as soon as possible in light of the emergency nature of the service being offered within the application.

Discovery further states that copies of the filing have been mailed to each of its customers, interedted State Commissions and other interested persons.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 8, 2005.

Magalie R. Salas,
Secretary.

[FR Doc. E5-6238 Filed 11-9-05; 8:45 am]

BILLING CODE 6717-01-P